ENVIRONMENTAL PROTECTION AGENCY

[FRL-8732-7]

Meeting of the Local Government Advisory Committee

AGENCY: Environmental Protection Agency (EPA).

ACTION: Notice.

SUMMARY: The Local Government Advisory Committee (LGAC) and the Small Community Advisory Subcommittee (SCAS) will meet on November 5-7, 2008 in Boston, Massachusetts. The Committee and Subcommittee meetings will be held in the EPA Region 1 Office on the eleventh floor Conference Center. The focus areas of the meeting will be: energy efficiency and the challenges of local governments to meet these growing demands; climate change; sustainable water infrastructure; regulatory issues; small communities issues; watersheds and coastlines; military issues; product stewardship; and green buildings.

This is an open meeting and all interested persons are invited to attend. The Committee will hear comments from the public between 12:30 p.m. and 1 p.m. on Thursday, November 6, 2008. Each individual or organization wishing to address the LGAC meeting will be allowed a maximum of five minutes to present their point of view. Also, written comments should be submitted electronically to Eargle.Frances@epa.gov. Please contact the Designated Federal Officer (DFO) at the number listed below to schedule agenda time. Time will be allotted on a first come, first serve basis, and the total period for comments may be extended, if the number of requests for appearances require it.

ADDRESSES: The LGAC meeting will be held at EPA's Region 1 Office, located at 1 Congress Street, Boston, MA on November 5-7, 2008 in the Eleventh Floor Conference Center.

The Committee's and Subcommittee meeting minutes and summary notes will be available after the meeting online at http://www.epa.gov/ocir and can be obtained by written request to the DFO.

FOR FURTHER INFORMATION CONTACT: Frances Eargle, DFO for the Local Government Advisory Committee (LGAC), at (202) 564-3115 or e-mail at Eargle.Frances@epa.gov.

Information on Services for those with Disabilities: For information on access or services for individuals with disabilities, please contact Frances Eargle at (202) 564-3115 or Eargle.Frances@epa.gov. To request accommodation of a disability, please request it 10 days prior to the meeting, to give EPA as much time as possible to process your request.

Dated: October 8, 2008.
Frances Eargle,
Designated Federal Officer, Local Government Advisory Committee.

[FR Doc. E8-25171 Filed 10-21-08; 8:45 am]

BILLING CODE 6560-50-P